DEPARTMENT OF JUSTICE

Notice of Lodging of Proposed First Modification to Consent Decree Under the Comprehensive Environmental Response, Compensation, and Liability Act

On January 15, 2025, the Department of Justice lodged a proposed first modification to a previously approved consent decree with the United States District Court for the Northern District of California in the consolidated lawsuits entitled United States v. Bradley Mining Company, et al., Civil Action No. 3:08-cv-03968, and United States of America v. Bradley Mining Company, Civil Action No. 3:08-cv-05501.

The United States, the Bradley Mining Company (“Bradley Mining”), Frederick Bradley, in his representative capacity as Trustee of the Worthen Bradley Family Trust (“Bradley Trust”) (together, “Defendants”), and the Elem Indian Colony of Pomo Indians of the Sulphur Bank Rancheria, California (“Elem Tribe”) are parties to a consent decree entered by the court on April 19, 2012, which resolved claims and counterclaims under the Comprehensive Environmental Response, Compensation, and Liability Act (“CERCLA”). The consent decree created a redevelopment trust for the benefit of the United States and the Elem Tribe, to which the Defendants conveyed certain land in and around the Sulphur Bank Mercury Mine Superfund Site in Lake County, California, to be managed and maintained for the beneficiaries until the parcels are transferred or sold and the trust is terminated.

The proposed modification to the consent decree changes the trust funding and trustee compensation structure to ensure the trust can continue to manage and maintain the land as required by the consent decree. It also requires the trustee to transfer certain parcels to the United States to be held in trust for the benefit of the Elem Tribe.

The publication of this notice opens a period for public comment on the modification to the consent decree. Comments should be addressed to the Assistant Attorney General, Environment and Natural Resources Division, and should refer to United States v. Bradley Mining Company, et al., D.J. Ref. No. 90-11-3-07593. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the modification to the consent decree may be examined and downloaded at this Justice Department website: https://www.justice.gov/enrd/consent-decrees. If you require assistance accessing the modification, you may request assistance by email or by mail to the addresses provided above for submitting comments.

Scott Bauer,
Assistant Section Chief, Environmental Enforcement Section, Environment and Natural Resources Division.

[FR Doc. 2025-01542 Filed 1-22-25; 8:45 am]

BILLING CODE 4410-15-P